DEPARTMENT OF JUSTICE

Notice of Extension of Comment Period on Proposed Consent Decrees Under the Comprehensive Environmental Response, Compensation, and Liability Act (CERCLA), the Clean Water Act (CWA), and the Oil Pollution Act (OPA)

On November 1, 2023, the Department of Justice lodged two proposed consent decrees with the United States District Court for the District of Oregon in the lawsuit entitled United States of America et al. v. ACF Industries LLC, et al., Civil Action No. 3:23-cv-1603 (D. Or.). Notice of this settlement was published in the Federal Register at 88 FR 78063 (Nov. 14, 2023), which announced a 45-day comment period. Based on the date of that Federal Register notice, the comment period was scheduled to end on December 29, 2023.

On December 11, 2023, Plaintiffs in the above-captioned settlement received a request to extend the comment period by an additional forty-five (45) days. After considering this request, Plaintiffs have decided to extend the original comment period by an additional thirty (30) days. This extension provides a total comment period of seventy-five (75) days, through and including January 28, 2024.

Comments on the proposed Consent Decrees should be addressed to the Assistant Attorney General, Environment and Natural Resources Division, and should refer to United States of America et al. v. ACF Industries LLC, et al., D.J. Ref. No. 90-11-2-06787/2.

Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decrees may be examined and downloaded at this Justice Department website: https://www.justice.gov/enrd/consent-decree/us-et-al-v-acf-industries-llc-et-al. Please note that this website contains the corrected version of the cash-out consent decree but not the version originally lodged with the court. The corrected version of the cash-out consent decree adds a legal entity for one of the settling defendants that inadvertently was omitted but does not change the scope of the operations covered by the consent decree or the amounts to be paid under the consent decree. Please refer to the corrected version of the cash-out consent decree when submitting comments. We will provide a paper copy of the Consent Decrees upon written request and payment of reproduction costs. Please mail your request and payment to: Consent Decree Library, U.S. DOJ—ENRD, P.O. Box 7611, Washington, DC 20044-7611.

Please enclose a check or money order for $45.25 (without attachments) or $631.25 (with attachments) (25 cents per page reproduction cost) payable to the United States Treasury.

Kathryn C. Macdonald,
Assistant Section Chief, Environmental Enforcement Section, Environment and Natural Resources Division.

[FR Doc. 2023-28017 Filed 12-20-23; 8:45 am]

BILLING CODE 4410-15-P